POSTAL SERVICE

39 CFR Part 111

New Mailing Standards for Live Animals and Special Handling

AGENCY: Postal Service™.

ACTION: Proposed rule.

SUMMARY: The Postal Service is proposing to revise Mailing Standards of the United States Postal Service, Domestic Mail Manual (DMM®) 503.14 and 601.9.3 to require special handling service for shipments containing certain types of live animals, to limit the mail classes available for use when shipping certain types of live animals, and to expand the mailability of live animals domestically to include any adult bird weighing no more than 25 pounds.

DATES: Submit comments on or before May 24, 2013.

ADDRESSES: Mail or deliver written comments to the manager, Product Classification, U.S. Postal Service, 475 L'Enfant Plaza SW., Room 4446, Washington, DC 20260-5015. You may inspect and photocopy all written comments at USPS® Headquarters Library, 475 L'Enfant Plaza SW., 11th Floor North, Washington, DC, by appointment only between the hours of 9 a.m. and 4 p.m., Monday through Friday. Call 1-202-268-2906 in advance for an appointment. Email comments, containing the name and address of the commenter, may be sent to: ProductClassification@usps.gov, with a subject line of “Live Animals.” Faxed comments are not accepted.

FOR FURTHER INFORMATION CONTACT: Grace Letto at 202-268-8370 or Rachel Devadas at 202-268-7276.

SUPPLEMENTARY INFORMATION: The Postal Service currently requires special handling service for designated shipments of live animals needing additional care during transport and handling to its destination as follows: Domestic shipments containing honeybees or baby poultry are currently required to include special handling service, unless First-Class Mail®, First-Class Package Service™, or Priority Mail® is used. Shipments containing live animals must also be marked on the address side with a description of the contents, even if special handling service is not purchased. These markings provide notice to Postal Service employees that specific care, different from the handling of ordinary mailpieces, is required. Circumstances requiring the Postal Service to handle shipments containing live animals differently also include:

a. Protection of Postal Service employees and the public against harm from diseased animals.

b. Protection of the mail and the environment against damage to the shipping container or the live animal and offensive odors or noise.

c. Protection of animals against death, taking into account the expected time and temperature in transit (weather conditions), and packaging sufficient to resist impact, heat and cold, and to prevent suffocation.

The Postal Service consistently accepts, transports, and delivers live animals with additional care in handling, regardless of the mail class or the extra service being purchased. This additional care ensures safe and effective processing for mail containing live animals through the mailstream to its destination. Consequently, the Postal Service incurs additional expense to isolate and protect live shipments even when sent by air transportation, such as with Express Mail® or Priority Mail®.

If this proposal is adopted the Postal Service will require special handling service for all parcels containing bulk shipments of bees (e.g. a queen bee packaged with an attending swarm), day-old poultry and adult birds, regardless of the class of mail used.

Additionally, the Postal Service currently affixes a unique tracking barcode on all parcels presented at retail, and recommends that all mailers not presenting shipments at retail include an Intelligent Mail® package barcode (IMpb) on their mailpieces, when not already required to do so as a condition of the mail class and price category or postage payment method used. If this proposal is adopted, the Postal Service will require mailers purchasing special handing to either present their mailpieces at retail, or to include an IMpb, embedded with the appropriate service type code applicable to special handling and the mail class used, on their mailpieces. The Postal Service also proposes that shipments of live animals that include special handling must be accepted at either a USPS retail unit, Business Mail Entry Unit (BMEU) or a Detached Mail Unit (DMU). The Postal Service anticipates that the combination of IMpb tracking and special handling service will provide customers with the service they expect as their parcels containing live animals are transported to their respective destinations.

To assure prompt or expedited delivery and to minimize the chances of animals dying in transit, the Postal Service is also proposing to require shipments containing amphibians and reptiles to be limited to the following products: Express Mail, Priority Mail (excluding Critical Mail®), First-Class Mail (parcels only) or First-Class Package Service. If this proposal is adopted, shipments of live amphibians and reptiles would no longer be permitted for use with any Package Services, Standard Post™, or Parcel Select® products.

Currently, certain disease-free adult birds can be accepted for domestic shipment when mailed in compliance with applicable regulations. Mailability is currently restricted to adult chickens, turkeys, guinea fowl, doves, pigeons, pheasants, partridges, quail ducks, geese, and swans. The Postal Service is proposing to expand its mailing standards to allow for the shipment of any disease-free live bird, weighing no more than 25 pounds, which can be legally transported. If this proposal is adopted, mailers must be compliant with all applicable governmental laws and regulations, including the Lacey Act, the Endangered Species Act (ESA), and regulations of the U.S. Department of Agriculture, U.S. Fish and Wildlife Service, and any state, municipal or local ordinances. Mailings must also be compliant with the guidelines provided in USPS Publication 14, Prohibitions and Restrictions on Mailing Animals, Plants, and Related Matter, Chapter 5.

Although we are exempt from the notice and comment requirements of the Administrative Procedure Act (5 U.S.C. 553 (b), (c)) regarding proposed rulemaking by 39 U.S.C. 410(a), we invite public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR part 111 is proposed to be amended as follows:

PART 111 — [AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

500 Additional Mailing Services

* * * * *

503 Extra Services

* * * * *

14.0 Special Handling

14.1 Fees for Special Handling

* * * * *

14.1.2 Fee and Postage

[Revise the first sentence of 14.1.2 as follows:]

The applicable special handling fee must be paid in addition to postage for each addressed piece for which special handling service is required by standards, or is requested. * * *

14.2 Basic Information

14.2.1 Description

[Revise the 14.2.1 by adding a new fourth and fifth sentence as follows:]

* * * Items with special handling service receive tracking and when not presented at retail must include an Intelligent Mail package barcode prepared in accordance with 708.5. Any mailpieces containing live animals and including special handling must be presented at retail postal unit, a Business Mail Entry Unit (BMEU), or a Detached Mail Unit (DMU).

14.2.2 Eligible Matter

[Revise 14.2.2 as follows:]

Special handling service is available only for Express Mail, Priority Mail (excluding Critical Mail), First-Class Mail, First-Class Package Service, Standard Post, Package Services, and Parcel Select (except Parcel Select Lightweight) pieces.

* * * * *

[Revise title of 14.2.4 and text as follows:]

14.2.4 Bees, Day-Old Poultry and Adult Birds

Special handling is required for shipments containing day-old poultry, adult birds and bulk shipments of bees (e.g. a queen bee packaged with an attending swarm), regardless of the class of mail purchased.

* * * * *

[Delete item 14.2.6 in its entirety]

* * * * *

600 Basic Standards for All Mailing Services

601 Mailability

* * * * *

9.0 Perishables

* * * * *

9.3 Live Animals

* * * * *

[Revise the second sentence of 9.3.2 as follows.]

9.3.2 Day-Old Poultry

* * * Live day-old chickens, ducks, emus, geese, guinea fowl, partridges, pheasants (pheasants may be mailed only from April through August), quail, and turkeys are acceptable in the mail only if:

* * * * *

[Revise the text of item f as follows:]

f. The shipment bears special handling postage in addition to regular postage.

* * * * *

[Revise and reformat 9.3.3 to include a new last sentence, and a new item a and b as follows:]

9.3.3 Small Cold-Blooded Animals

* * * The following also apply:

a. Reptiles (e.g. lizards, skinks, and baby alligators and caimans not more than 20 inches long) must be mailed by Express Mail, Priority Mail (excluding Critical Mail), First-Class Mail (parcels only), or First-Class Package Services.

b. Amphibians (e.g. toads, frogs, and salamanders) must be mailed by Express Mail, Priority Mail (excluding Critical Mail), First-Class Mail (parcels only), or First-Class Mail Package Services.

[Revise title and introductory text of 9.3.4 as follows:]

9.3.4 Adult Birds

Disease-free adult birds, weighing no more than 25 pounds, may be mailed domestically. Mailers must be compliant with all applicable governmental laws and regulations, including the Lacey Act, the Endangered Species Act (ESA), and regulations of the U.S. Department of Agriculture, U.S. Fish and Wildlife Service, and any state, municipal or local ordinances. Mailings must also be compliant with the guidelines provided in USPS Publication 14, Prohibitions and Restrictions on Mailing Animals, Plants, and Related Matter, Chapter 5. In addition, each container or package must be marked as required by U.S. Fish and Wildlife Service under 50 CFR 14. Adult birds are mailable as follows:

[Revise 9.3.4a as follows:]

a. The mailer must send adult fowl by Express Mail, including Special Handling service, in secure containers approved by the manager, Product Classification (see 608.8.0 for address).

* * * * *

9.3.7 Bees

[Revise the second sentence of 9.3.7 as follows:]

* * * Bulk shipments of bees (e.g. a queen bee packaged with an attending swarm) must include postage for special handling service. * * *

* * * * *

We will publish an appropriate amendment to 39 CFR part 111 to reflect these changes if our proposal is adopted.

Stanley F. Mires,
Attorney, Legal Policy & Legislative Advice.

[FR Doc. 2013-09603 Filed 4-23-13; 8:45 am]

BILLING CODE P